NATIONAL AERONAUTICS AND SPACE ADMINISTRATION

[Notice 04-123]

Notice of Prospective Patent Application License

AGENCY: National Aeronautics and Space Administration.

ACTION: Notice of prospective patent license.

SUMMARY: NASA hereby gives notice that Molecular NanoSystems Inc., of Palo Alto, CA, has applied for a co-exclusive license to practice the invention disclosed in NASA Case No. ARC-15173-1, entitled “Nanoengineered Thermal Materials Using Carbon Nanotube Array Composites,” for which a U.S. Patent Application was filed and assigned to the United States of America as represented by the Administrator of the National Aeronautics and Space Administration. Written objections to the prospective grant of a license should be sent to Ames Research Center.

DATES: Responses to this notice must be received by December 13, 2004.

FOR FURTHER INFORMATION CONTACT: Robert Padilla, Chief Patent Counsel, NASA Ames Research Center, M/S 202A-4, Moffett Field, CA 94035-1000, (650) 604-5104.

Dated: November 2, 2004.
Keith T. Sefton,
Deputy General Counsel, Administration and Management.

[FR Doc. 04-25123 Filed 11-10-04; 8:45 am]

BILLING CODE 7510-13-P